DEPARTMENT OF THE INTERIOR

National Park Service

[NPS-WASO-NAGPRA-NPS0029879; PPWOCRADN0-PCU00RP14.R50000]

Notice of Inventory Completion: Tennessee Valley Authority, Knoxville, TN, and McClung Museum of Natural History & Culture, University of Tennessee, Knoxville, TN

AGENCY: National Park Service, Interior.

ACTION: Notice.

SUMMARY: The Tennessee Valley Authority (TVA) and the McClung Museum of Natural History and Culture (MM) have completed an inventory of human remains and associated funerary objects in consultation with the appropriate Federally-recognized Indian Tribes, and have determined that there is no cultural affiliation between the human remains and associated funerary objects and any present-day Federally-recognized Indian Tribes. Representatives of any Federally-recognized Indian Tribe not identified in this notice that wish to request transfer of control of these human remains and associated funerary objects should submit a written request to the TVA. If no additional requestors come forward, transfer of control of the human remains and associated funerary objects to the Federally-recognized Indian Tribe stated in this notice may proceed.

DATES: Representatives of any Federally-recognized Indian Tribe not identified in this notice that wish to request transfer of control of these human remains and associated funerary objects should submit a written request with information in support of the request to the TVA at the address in this notice by April 27, 2020.

ADDRESSES: Dr. Thomas O. Maher, Tennessee Valley Authority, 400 West Summit Hill Drive, WT11C, Knoxville TN 37902-1401, telephone (865) 632-7458, email tomaher@tva.gov.

SUPPLEMENTARY INFORMATION: Notice is hereby given in accordance with the Native American Graves Protection and Repatriation Act (NAGPRA), 25 U.S.C. 3003, of the completion of an inventory of human remains and associated funerary objects under the control of the Tennessee Valley Authority, Knoxville, TN, and the McClung Museum of Natural History and Culture, University of Tennessee, Knoxville, TN. The human remains and associated funerary objects were removed from the following archeological sites in Decatur and Henry Counties, TN: 40DR62, 40HY1, 40HY4, and 40HY10.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by TVA and MM professional staff in consultation with representatives of the Cherokee Nation; Coushatta Tribe of Louisiana; Eastern Band of Cherokee Indians; The Chickasaw Nation; The Muscogee (Creek) Nation; The Osage Nation (previously listed as the Osage Tribe); The Seminole Nation of Oklahoma; Thlopthlocco Tribal Town; and the United Keetoowah Band of Cherokee Indians in Oklahoma (hereafter referred to as “The Consulted Tribes”).

History and Description of the Remains

The sites listed in this notice were excavated as part of TVA's Kentucky reservoir project by the University of Tennessee, using labor and funds provided by the Works Progress Administration (WPA). Details regarding these excavations have never been published. Field reports regarding these sites can be found at the MM and TVA. The human remains and associated funerary objects listed in this notice have been in the physical custody of the University of Tennessee since excavation. Conclusive evidence regarding which institution controls the cultural items has not been found. TVA and MM have, therefore, decided to jointly repatriate these items.

On October 6-16, 1941, human remains representing, at minimum, 18 individuals were removed from site 40DR62, in Decatur County, TN. Charles Nash and a WPA crew excavated two stone mounds at this site. One, unit 69, was two feet high and twenty feet in diameter. It had been disturbed by looting. The second, unit 70, was found along a rock ledge on the bluff terrace. Excavations were difficult, human remains were collected by excavation squares rather than specific burial features. There are no radiocarbon dates from this site, but stone mounds in this area commonly date to the Woodland period. The human remains represent two infants, four children and 12 adults. Most of the human remains were too fragmentary to identify sex. No known individuals were identified. The six associated funerary objects include one bison tooth, one bone artifact, two pieces of red ochre, and two shell beads.

From May 10 to July 7, 1939, human remains representing, at minimum, 58 individuals were removed from site 40HY1, in Henry County, TN. A field report by George Lidberg concludes that this site comprises an extensive Mississippian village, although natural erosion might have destroyed half the site. As many as 41 wall trench structures were defined at the site. The structures ranged in size from 11 x 11 feet to 20 x 25 feet. Seventeen hearths were also found in or near these structures. A section of a palisade wall 195 feet long was identified running parallel to the river. There are no known radiocarbon dates from this site. Shell-tempered and limestone/grit-tempered ceramics at the site suggest a Late Woodland through Mississippian occupation. All of the human remains from this site were either infants up to 18 months old, newborns, or fetuses. Sex could not be determined. No known individuals were identified. The 20 associated funerary objects include four animal bones, two turtle shell or bone, and 14 shell-tempered pottery sherds.

In mid-July, 1939, human remains representing, at minimum, one individual were removed from site 40HY4, in Henry County, TN. The site extended 500—600 feet along the Tennessee River and up to 250 feet from the river bank. Apparently, permission for excavations was restricted to a small area on the southern end of the site. No structures or pits were encountered. There are few details regarding the excavations at this site. The field report by George Lidberg indicates that fragments of infant remains were encountered, but only adult remains were recorded and collected. There are no known radiocarbon dates for this site. Ceramics from the site suggest a Late Woodland to early Mississippian occupation. The human remains represent a single adult female. No known individuals were identified. No associated funerary objects are present.

In August 1939, human remains representing, at minimum, two individuals were removed from site 40HY10, in Henry County, TN. This site was located near West Sandy Creek, seven miles from its confluence with the Tennessee River. A mound eight feet in height and 50 feet in diameter had been disturbed by multiple looter pits. Two individuals were placed upon the original ground surface on a prepared bed of soil. Multiple soils were placed on these burials, including a distinctive white clay derived from a nearby swamp; atop them was a layer of vegetable matter. Traces of a third burial were found two feet above the base and on top of the first phase of mound building. There are no radiocarbon dates from this site. The ceramics and the nature of the burial mound suggest that it was created during the Middle Woodland period. Both individuals from this site were adult males. No known individuals were identified. The 18 associated funerary objects include two beaver incisors, one lot of black paint, one piece of galena, two lots of metallic paint, one mica mirror, one lot of orange paint, two paint stones, one ceramic sherd, one projectile point, one piece of red ochre, one scraper, one whetstone, and three pieces of yellow ochre.

Determinations Made by the Tennessee Valley Authority and the McClung Museum of Natural History and Culture

Officials of the Tennessee Valley Authority and the McClung Museum of Natural History and Culture have determined that:

• Pursuant to 25 U.S.C. 3001(9), the human remains described in this notice are Native American based on their presence in prehistoric archeological sites and osteological analysis.

• Pursuant to 25 U.S.C. 3001(9), the human remains described in this notice represent the physical remains of 79 individuals of Native American ancestry.

• Pursuant to 25 U.S.C. 3001(3)(A), the 44 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• The Treaty of October 19, 1818, indicates that the land from which the cultural items were removed is the aboriginal land of The Chickasaw Nation.

• Pursuant to 43 CFR 10.11(c)(1)(ii), the disposition of the human remains may be to The Chickasaw Nation. The Tennessee Valley Authority and the McClung Museum of Natural History and Culture have agreed to transfer control of the human remains to The Chickasaw Nation.

• Pursuant to 43 CFR 10.11(c)(4), the Tennessee Valley Authority and the McClung Museum of Natural History and Culture have agreed to transfer control of the associated funerary objects to The Chickasaw Nation.

Additional Requestors and Disposition

Representatives of any Federally-recognized Indian Tribe not identified in this notice that wish to request transfer of control of these human remains and associated funerary objects should submit a written request with information in support of the request to Dr. Thomas O. Maher, Tennessee Valley Authority, 400 West Summit Hill Drive, WT11C, Knoxville, TN 37902-1401, telephone (865) 632-7458, email tomaher@tva.gov, by April 27, 2020. After that date, if no additional requestors have come forward, transfer of control of the human remains and associated funerary objects to The Chickasaw Nation may proceed.

The Tennessee Valley Authority is responsible for notifying The Consulted Tribes that this notice has been published.

Dated: February 19, 2020.
Melanie O'Brien,
Manager, National NAGPRA Program.

[FR Doc. 2020-06430 Filed 3-26-20; 8:45 am]

BILLING CODE 4312-52-P